DEPARTMENT OF ENERGY

Federal Energy Regulatory Commission

Combined Notice of Filings

Take notice that the Commission has received the following Natural Gas Pipeline Rate and Refund Report filings:

Filings Instituting Proceedings

Docket Numbers: RP17-251-000.

Applicants: Chandeleur Pipe Line, LLC.

Description: Fuel and Line Loss Allowance Calculation filing of Chandeleur Pipe Line, LLC under RP17-251.

Filed Date: 12/2/16.

Accession Number: 20161202-5350.

Comments Due: 5 p.m. ET 12/14/16.

Docket Numbers: RP17-252-000.

Applicants: UGI Sunbury, LLC.

Description: § 4(d) Rate Filing: UGI Sunbury Pipeline—Baseline Filing to be effective 1/1/2017.

Filed Date: 12/6/16.

Accession Number: 20161206-5190.

Comments Due: 5 p.m. ET 12/19/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP17-244-001.

Applicants: Tallgrass Interstate Gas Transmission, L.

Description: Tariff Amendment: Erata to NRA Amend Hastings—Trenton to be effective 12/1/2016.

Filed Date: 12/5/16.

Accession Number: 20161205-5000.

Comments Due: 5 p.m. ET 12/19/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2016.
Nathaniel J. Davis, Sr.,
Deputy Secretary.

[FR Doc. 2016-30129 Filed 12-14-16; 8:45 am]

BILLING CODE 6717-01-P